FEDERAL ELECTION COMMISSION

Sunshine Act Meeting

TIME AND DATE: Thursday, April 25, 2019 at 10:00 a.m.

PLACE: 1050 First Street NE, Washington, DC (12th Floor).

STATUS: This meeting will be open to the public.

MATTERS TO BE CONSIDERED:

Draft Advisory Opinion 2018-12: Defending Digital Campaigns, Inc.

Draft Advisory Opinion 2018-13: OsiaNetwork LLC

REG 2018-04 (Senate Filing)—Draft Interim Final Rule

July-December, 2019 Meeting Dates

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Submitted: April 18, 2019.
Dayna C. Brown,
Secretary and Clerk of the Commission.

[FR Doc. 2019-08183 Filed 4-18-19; 4:15 pm]

BILLING CODE 6715-01-P